DEPARTMENT OF HOMELAND SECURITY

Coast Guard

[USCG-2005-21003]

Collection of Information Under Review by Office of Management and Budget (OMB): OMB Control Number: 1625-0040

AGENCY: Coast Guard, DHS.

ACTION: Request for comments.

SUMMARY: In compliance with the Paperwork Reduction Act of 1995, the Coast Guard intends to seek the approval of OMB for the renewal of one Information Collection Request (ICR). The ICR comprise 1625-0040, Continuous Discharge Book, Merchant Mariner Application, Physical Examination Report, Sea Service Report, Chemical Testing and Entry Level Physical Report. Before submitting the ICR to OMB, the Coast Guard is inviting comments as described below.

DATES: Comments must reach the Coast Guard on or before June 27, 2005.

ADDRESSES: To make sure that your comments and related material do not enter the docket [USCG-2005-21003] more than once, please submit them by only one of the following means:

(1) By mail to the Docket Management Facility, U.S. Department of Transportation (DOT), room PL-401, 400 Seventh Street, SW., Washington, DC 20590-0001.

(2) By delivery to room PL-401 on the Plaza level of the Nassif Building, 400 Seventh Street, SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying in room PL-401 on the Plaza level of the Nassif Building, 400 Seventh Street, SW., Washington, DC, between 9 a.m. and 5 p.m., Monday through Friday, except Federal holidays. You may also find this docket on the Internet at http://dms.dot.gov.

Copies of the complete ICR are available through this docket on the Internet at http://dms.dot.gov, and also from Commandant (CG-611), U.S. Coast Guard Headquarters, room 6106 (Attn: Ms. Barbara Davis), 2100 Second Street, SW., Washington, DC 20593-0001. The telephone number is 202-267-2326.

FOR FURTHER INFORMATION CONTACT: Ms. Barbara Davis, Office of Information Management, telephone 202-267-2326, or fax 202-267-4814 for questions on the document; or telephone Ms. Andrea M. Jenkins, Program Manager, Docket Operations, 202-366-0271, for questions on the docket.

SUPPLEMENTARY INFORMATION

Public Participation and Request for Comments

We encourage you to respond to this request for comment by submitting comments and related materials. We will post all comments received, without change, to http://dms.dot.gov, and they will include any personal information you have provided. We have an agreement with DOT to use the Docket Management Facility. Please see the paragraph on DOT's “Privacy Act Policy” below.

Submitting comments: If you submit a comment, please include your name and address, identify the docket number for this request for comment [USCG-2005-21003], indicate the specific section of this document to which each comment applies, and give the reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Requests

1. Title: Continuous Discharge Book, Merchant Mariner Application, Physical Examination Report, Sea Service Report, Chemical Testing and Entry Level Physical Report.

OMB Control Number: 1625-0040.

Summary: Title 46, U.S.C. 7302(b) mandates that the Coast Guard may issue a Continuous Discharge Book (CG Form 719A) upon request from an individual. Title 46, CFR 10.205(a), 10.207(a), 10.209(a)(1) and 12.02-9(a) mandate that each applicant for a license, certificate of registry or merchant mariner document shall make written application on a Coast Guard furnished form (CG Form 719B). Title 46, CFR 10.205(d), 10.207(e)(2), 10.209(d)(2), 12.05-5 and 12.15-5, mandate that each applicant for a license or merchant mariner document shall present a completed Coast Guard physical examination report (CG Form 719K) executed by the physician. Title 46, CFR 10.211 mandates criteria (CG Form 719S) for documenting sea service on vessels of less than 200 gross registered tons. Title 46, CFR 10.202(i) and 12.02-9(f) mandates that each applicant shall produce evidence (CG Form 719P) of having passed a chemical test for dangerous drugs. Title 46, CFR 12.02-17(e) requires entry-level merchant mariner document applicants to provide a statement (CG Form 719K/E) from a qualified practitioner attesting to the applicant's medical fitness to perform the functions for which the document is issued.

Need: The Coast Guard will use the information collected solely for the purpose of determining eligibility for issuance of a merchant mariner credential(s) that is, license, certificate of registry or merchant mariner document.

Respondents: Merchant Mariners.

Frequency: On occasion.

Burden Estimate: The estimated burden has been increased from 21,358 hours to 21,875 hours a year.

Dated: April 20, 2005.
Dr. Nathaniel Heiner,
Acting, Assistant Commandant for Command, Control, Communications Computers and Information Technology.

[FR Doc. 05-8452 Filed 4-26-05; 8:45 am]

BILLING CODE 4910-15-P